DEPARTMENT OF AGRICULTURE

Forest Service

Kern and Tulare Counties Resource Advisory Committee

AGENCY: Forest Service, USDA.

ACTION: Notice of meeting.

SUMMARY: The Kern and Tulare Counties Resource Advisory Committee (RAC) will meet in Porterville, Kernville, and Bakersfield, California. The committee is meeting as authorized under the Secure Rural Schools and Community Self-Determination Act (Pub. L. 110-343) and in compliance with the Federal Advisory Committee Act. The purpose of the meetings is to establish and implement a process to accept projects and determine which projects to recommend to the Forest Supervisor for funding under Title II of the Act.

DATES: The meetings will be held on August 26, September 23, September 29, October 28, and November 18, 2010. All meetings will begin at 5 p.m.

ADDRESSES: The August 26, September 29, October 28 meetings will be held at the Sequoia National Forest Headquarters, 1839 South Newcomb Street, Porterville, California. Videoconferencing for the August 26 meeting will be available only at the Kernville Office of the Kern River Ranger District, 105 Whitney Road, Kernville, California. The September 23 and November 18 meetings will be held at the County of Kern Administrative Office, 1115 Truxtun Avenue, Bakersfield, California.

Written comments should be sent to Priscilla Summers, Western Divide Ranger District, 32588 Highway 190, Springville, California 93265. Comments may also be sent via e-mail to psummers@fs.fed.us, or via facsimile to 559-539-2067.

All comments, including names and addresses when provided, are placed in the record and are available for public inspection and copying. The public may inspect comments received at Western Divide Ranger District, 32588 Highway 190, Springville, CA 93265. Visitors are encouraged to call ahead to 559-539-2607 to facilitate entry into the building and access to the record.

FOR FURTHER INFORMATION CONTACT: Penelope Shibley, RAC Coordinator, Kernville Ranger Station, P.O. Box 9, Kernville, CA 93238; (760) 376-3781; or e-mail: pshibley@fs.fed.us. Individuals who use telecommunication devices for the deaf (TDD) may call 559-781-6650 between 8 a.m. and 4:30 p.m., Pacific Daylight Time, Monday through Friday.

SUPPLEMENTARY INFORMATION: The meetings are open to the public. Committee discussions are limited to Forest Service staff and committee members. The following business will be conducted: (1) Introductions of all committee members, replacement members, and Forest Service personnel; (2) develop a procedure to receive, process, and recommend projects for funding; (3) develop a schedule for accepting and processing project applications; and (4) receive public comment. Persons who wish to bring related matters to the attention of the Committee may file written statements with the Committee staff before or after the meeting.

Dated: July 28, 2010.
Tina J. Terrell,
Forest Supervisor.

[FR Doc. 2010-19023 Filed 8-2-10; 8:45 am]

BILLING CODE 3410-11-P